DEPARTMENT OF THE TREASURY

Internal Revenue Service

26 CFR Parts 1, 31, 40, and 301

[REG-153340-09]

RIN 1545-BJ13

Electronic Funds Transfer of Depository Taxes; Correction

AGENCY: Internal Revenue Service (IRS), Treasury.

ACTION: Correction to notice of proposed rulemaking and notice of public hearing.

SUMMARY: This document contains corrections to a notice of proposed rulemaking and notice of public hearing (REG-153340-09) that were published in the Federal Register on Monday, August 23, 2010, relating to Federal tax deposits (FTDs) by Electronic Funds Transfer (EFT).

FOR FURTHER INFORMATION CONTACT: Michael E. Hara, (202) 622-4910 (not a toll-free number).

SUPPLEMENTARY INFORMATION:

Background

The correction notice that is the subject of this document is under sections 1461, 6302, 6656, and 7502 of the Internal Revenue Code.

Need for Correction

As published, the notice of proposed rulemaking and notice of public hearing (REG-153340-09), published on Monday, August 23, 2010 (75 FR 51707), contain errors that may prove to be misleading and are in need of clarification.

Correction of Publication

Accordingly, the publication of the notice of proposed rulemaking and notice of public hearing (REG-153340-09), which was the subject of FR Doc. 2010-20737, is corrected as follows:

1. On page 51707, column 2, in the preamble, under the caption DATES:, fifth line, the language “September 21, 2010, must be received” is corrected to read “September 27, 2010, must be received”.

2. On page 51708, column 2, in the preamble, under the paragraph heading “Comments and Public Hearing”, last paragraph of the column, second line, the language “for September 21, 2010, at 10 a.m. in the” is corrected to read “for September 27, 2010, at 10 a.m. in the”.

LaNita Van Dyke,
Chief, Publications and Regulations Branch, Legal Processing Division, Associate Chief Counsel, (Procedure and Administration).

[FR Doc. 2010-21257 Filed 8-23-10; 4:15 pm]

BILLING CODE 4830-01-P